SECURITIES AND EXCHANGE COMMISSION

[File No. 500-1]

In the Matter of Smart Online, Inc.; Order of Suspension of Trading

January 17, 2006.

It appears to the Securities and Exchange Commission that there is a lack of current and accurate information concerning the securities of Smart Online, Inc. (“SOLN”) because of possible manipulative conduct occurring in the market for the company's stock.

The Commission is of the opinion that the public interest and the protection of investors require a suspension of trading in the securities of the above-listed company.

Therefore, it is ordered, pursuant to section 12(k) of the Securities Exchange Act of 1934, that trading in the above-listed company is suspended for the period from 9:30 a.m. EST, on January 17, 2006 through 11:59 p.m. EST, on January 30, 2006.

By the Commission.
J. Lynn Taylor,
Assistant Secretary.

[FR Doc. 06-519 Filed 1-17-06; 11:16 am]

BILLING CODE 8010-01-P